DEPARTMENT OF AGRICULTURE

Food and Nutrition Service

Commodity Supplemental Food Program: Elderly Income Guidelines

AGENCY: Food and Nutrition Service, USDA.

ACTION: Notice.

SUMMARY: This notice announces the adjusted income guidelines to be used by State agencies in determining the eligibility of elderly persons applying to participate in the Commodity Supplemental Food Program (CSFP). These guidelines are to be used in conjunction with the CSFP regulations under 7 CFR part 247.

EFFECTIVE DATE: April 18, 2000.

FOR FURTHER INFORMATION CONTACT: Lillie F. Ragan, Assistant Branch Chief, Household Programs Branch, U.S. Department of Agriculture, 3101 Park Center Drive, Alexandria, Virginia 22302-1594, or telephone (703) 305-2662.

SUPPLEMENTARY INFORMATION:

Regulatory Flexibility Act

This action is not a rule as defined by the Regulatory Flexibility Act (5 U.S.C. 601-612) and thus is exempt from the provisions of that Act.

Paperwork Reduction Act

This notice does not contain reporting or recordkeeping requirements subject to approval by the Office of Management and Budget in accordance with the Paperwork Reduction Act of 1995 (44 U.S.C. 3507).

Executive Order 12372

This program is listed in the Catalog of Federal Domestic Assistance Programs under No. 10.565 and is subject to the provisions of Executive Order 12372, which requires intergovernmental consultation with State and local officials (7 CFR part 3015, subpart V, 48 FR 29112).

Description

The Food Security Act of 1985 (Pub. L. 99-198) amended section 5 of the Agriculture and Consumer Protection Act of 1973 (7 U.S.C. 612c note) to require that the Secretary permit agencies administering the CSFP to serve low-income elderly persons if such service can be provided without reducing service levels for women, infants, and children. The law also mandates establishment of income eligibility requirements for elderly participation. Prior to enactment of Pub. L. 99-198, elderly participation was restricted by law to three designated pilot projects which served the elderly in accordance with agreements with the Department.

To implement the CSFP mandates of Pub. L. 99-198, the Department published an interim rule on September 17, 1986 at 51 FR 32895 and a final rule on February 18, 1988, at 53 FR 4831. These regulations defined “elderly persons” as those who are 60 years of age or older (7 CFR 247.2). The final rule further stipulates that elderly persons certified on or after September 17, 1986 must have “household income at or below 130 percent of the Federal Poverty Income Guidelines published annually by the Department of Health and Human Services.” (7 CFR 247.7(a)(3)).

The Federal Poverty Income Guidelines are revised annually to reflect changes in the Consumer Price Index. The revision for 2000 was published by the Department of Health and Human Services in the Federal Register on February 15, 2000 at 65 FR 7555. To establish income limits of 130 percent, the guidelines were multiplied by 1.30 and the results rounded up to the next whole dollar.

At this time, the Department is publishing the income limits of 130 percent of the poverty income guidelines. The table in this notice contains the income limits by household size to be used for elderly certification in the CSFP. In past years, we have made the revised guidelines effective from July 1 to the following June 30, to conform to the effective period used in USDA child nutrition programs. Beginning this year, we are making the guidelines effective on the date that they are published in the Federal Register in order to diminish the time gap between CSFP adjustments and cost-of-living adjustments in Social Security benefits, which are made in January each year. These guidelines will remain in effect until publication of a notice with revised guidelines in 2001.

FNS Income Eligibility Guidelines for the Elderly in CSFP (130 Percent of Poverty Income Guidelines)
[Effective April 18, 2000]
Family size | Annual | Month | Week
1 | 10,855 | 905 | 209
2 | 14,625 | 1,219 | 282
3 | 18,395 | 1,533 | 354
4 | 22,165 | 1,848 | 427
5 | 25,935 | 2,162 | 499
6 | 29,705 | 2,476 | 572
7 | 33,475 | 2,790 | 644
8 | 37,245 | 3,104 | 717
For each additional family member add | +3,770 | +315 | +73

Authority: Pub. L. 93-86 (7 U.S.C. 612c note)

Dated: April 12, 2000.
George A. Braley,
Acting Administrator, Food and Nutrition Service.

[FR Doc. 00-9644 Filed 4-17-00; 8:45 am]

BILLING CODE 3410-30-P